DEPARTMENT OF ENERGY

10 CFR Parts 600 and 1024

RIN 1991-AB77

Assistance Regulations; Correction

AGENCY: Department of Energy.

ACTION: Final rule; correction.

SUMMARY: The Department of Energy (DOE) is correcting a final rule that appeared in the Federal Register of August 28, 2009 (74 FR 44273). In this document, DOE amended its Financial Assistance Regulations to update, streamline, and simplify the general rules, and also removed regulations governing the DOE Financial Assistance Appeals Board.

DATES: This correction is effective September 28, 2009.

FOR FURTHER INFORMATION CONTACT: Ms. Jacqueline Kniskern, Office of Procurement and Assistance Policy, U.S. Department of Energy, at 202-287-1342, or by e-mail at jacqueline.kniskern@hq.doe.gov.

SUPPLEMENTARY INFORMATION: In FR Doc. E9-20299, appearing on page 44273 in the Federal Register of Friday, August 28, 2009, the following correction is made:

§ 600.6 [Corrected]

On page 44275, third column, § 600.6, introductory paragraph (c), the phrase “DOE may award a grant or cooperative agreement on a noncompetitive basis only if the application satisfies one or more of the follow selection criteria:” is corrected to read “DOE may award a grant or cooperative agreement or technology investment agreement on a noncompetitive basis only if the application satisfies one or more of the follow selection criteria:”.

Issued in Washington, DC, on September 21, 2009.
Edward R. Simpson,
Director, Office of Procurement and Assistance Management, Office of Management, Department of Energy.
Joe Waddell,
Acting Director, Office of Acquisition and Supply Management, National Nuclear Security Administration.

[FR Doc. E9-23188 Filed 9-24-09; 8:45 am]

BILLING CODE 6450-01-P